DEPARTMENT OF COMMERCE

National Oceanic and Atmospheric Administration

RIN 0648-XC628

Marine Mammals; File No. 17312

AGENCY: National Marine Fisheries Service (NMFS), National Oceanic and Atmospheric Administration (NOAA), Commerce.

ACTION: Notice; receipt of application.

SUMMARY: Notice is hereby given that the Scripps Institution of Oceanography [Responsible Party: John Hildebrand, Ph.D.], University of California, 8635 Discovery Way, La Jolla, CA 92093, has applied in due form for a permit to conduct research on 35 cetacean species/stocks, including the following endangered whales: blue (Balaenoptera musculus), fin (B. physalus), sei (B. borealis), Southern Resident stock of killer (Orcinus orca), Hawaii insular stock of false killer (Pseudorca crassidens), sperm (Physeter macrocephalus), North Pacific right (Eubalaena japonica), and humpback (Megaptera novaeangliae) whales.

DATES: Written, telefaxed, or email comments must be received on or before May 20, 2013.

ADDRESSES: The application and related documents are available for review by selecting “Records Open for Public Comment” from the Features box on the Applications and Permits for Protected Species (APPS) home page, https://apps.nmfs.noaa.gov, and then selecting File No. 17312 from the list of available applications.

These documents are also available upon written request or by appointment in the following offices: See SUPPLEMENTARY INFORMATION.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Carrie Hubard, (301)427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant is requesting a 5-year research permit to study 35 cetacean species or stocks during vessel surveys in the Pacific Ocean and Gulf of Mexico to understand cetaceans' use of sound, their sensitivity to anthropogenic sound, and impacts of the Deepwater Horizon oil spill. The applicant requests authority to: (1) Photograph cetaceans for identification to determine abundance, movements and population structure; (2) collect biopsies and fecal samples to determine taxonomy, sex, relatedness and stock structure of cetaceans; and (3) suction-cup tag, track, and collect passive acoustic recordings to study cetacean diving behavior, calling behavior, feeding, and movements.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301)427-8401; fax (301)713-0376;

Northwest Region, NMFS, 7600 Sand Point Way NE., BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941; and

Southeast Region, NMFS, 263 13th Avenue South, Saint Petersburg, FL 33701; phone (727)824-5312; fax (727)824-5309.

Dated: April 16, 2013.
P. Michael Payne,
Chief, Permits and Conservation Division, Office of Protected Resources, National Marine Fisheries Service.

[FR Doc. 2013-09249 Filed 4-18-13; 8:45 am]

BILLING CODE 3510-22-P